DEPARTMENT OF TRANSPORTATION

Federal Aviation Administration

Air Traffic Procedures Advisory Committee

AGENCY: Federal Aviation Administration (FAA), DOT.

ACTION: Notice of Meeting.

SUMMARY: The FAA is issuing this notice to advise the public that a meeting of the Federal Aviation Administration Air Traffic Procedures Advisory Committee (ATPAC) will be held to review present air traffic control procedures and practices for standardization, revision, clarification, and upgrading of terminology and procedures.

DATES: The meeting will be held Tuesday, September 30 and Wednesday, October 1, 2014 from 8:30 a.m. to 5:00 p.m.

ADDRESSES: The meeting will be held at the National Harbor 15 meeting room located on Level 3 of the Gaylord National Harbor Convention Center, 201 Waterfront Street, National Harbor, MD 20745

FOR FURTHER INFORMATION CONTACT: Ms. Heather Hemdal, ATPAC Executive Director, 600 Independence Avenue SW., Washington, DC 20591.

SUPPLEMENTARY INFORMATION: Pursuant to Section 10(a)(2) of the Federal Advisory Committee Act (Pub. L. 92-463; 5 U.S.C. App.2), notice is hereby given of a meeting of the ATPAC to be held Tuesday, September 30 and Wednesday, October 1, 2014 from 8:30 a.m. to 5:00 p.m.

The agenda for this meeting will cover a continuation of the ATPAC's review of present air traffic control procedures and practices for standardization, revision, clarification, and upgrading of terminology and procedures. It will also include:

1. Call for Safety Items

2. Approval of minutes of the previous meeting

3. Introduction of New Areas of Concern or Miscellaneous items

4. Items of Interest

5. Status updates to existing Areas of Concern

6. Discussion and agreement of location and dates for subsequent meetings.

Attendance is open to the interested public but limited to space available. With the approval of the Chairperson, members of the public may present oral statements at the meeting. Persons desiring to attend and persons desiring to present oral statement should notify Ms. Heather Hemdal no later than September 23, 2014. Any member of the public may present a written statement to the ATPAC at any time at the address given above.

Issued in Washington, DC, on August 21, 2014.
Maurice Hoffman,
Acting Executive Director, Air Traffic Procedures Advisory Committee.

[FR Doc. 2014-20694 Filed 8-28-14; 8:45 am]

BILLING CODE 4910-13-P